DEPARTMENT OF TRANSPORTATION

Federal Aviation Administration

14 CFR Part 39

[Docket No. FAA-2025-5029; Project Identifier MCAI-2024-00153-T; Amendment 39-23201; AD 2025-05-14R1]

RIN 2120-AA64

Airworthiness Directives; Airbus SAS Airplanes

AGENCY: Federal Aviation Administration (FAA), DOT.

ACTION: Final rule; removal; request for comments.

SUMMARY: The FAA is removing Airworthiness Directive (AD) 2025-05-14, which applied to all Airbus SAS Model A350-941 and -1041 airplanes. AD 2025-05-14 required repetitively testing the pre-cooler exchanger (PCE) for air leaks and reporting the results, and, depending on findings, inspecting the thermal blankets for damage and replacing the PCE. The FAA issued AD 2025-05-14 to address PCE leaking air, which could result in thermal blanket damage that, if combined with an independent event of engine fire, could lead to a temporary uncontrolled fire. Since the FAA issued AD 2025-05-14, a risk re-assessment has shown that the airworthiness concern is not an unsafe condition that warrants an AD. Accordingly, AD 2025-05-14 is removed.

DATES: This AD becomes effective November 21, 2025.

The FAA must receive comments on this AD by January 5, 2026.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-5029; or in person at Docket Operations between 9 a.m. and 5 p.m., Monday through Friday, except Federal holidays. The AD docket contains this final rule, the mandatory continuing airworthiness information (MCAI), any comments received, and other information. The street address for Docket Operations is listed above.

FOR FURTHER INFORMATION CONTACT: Tak Kobayashi, Aviation Safety Engineer, FAA, 2200 South 216th St., Des Moines, WA 98198; phone: 206-231-3553; email: takahisa.kobayashi@faa.gov.

SUPPLEMENTARY INFORMATION:

Comments Invited

The FAA invites you to send any written data, views, or arguments about this final rule. Send your comments using a method listed under the ADDRESSES section. Include “Docket No. FAA-2025-5029; Project Identifier MCAI-2024-00153-T” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Tak Kobayashi, Aviation Safety Engineer, FAA, 2200 South 216th St., Des Moines, WA 98198; phone: 206-231-3553; email: takahisa.kobayashi@faa.gov. Any commentary that the FAA receives which is not specifically designated as CBI will be placed in the public docket for this rulemaking.

SUPPLEMENTARY INFORMATION:

Background

The European Union Aviation Safety Agency (EASA), which is the Technical Agent for the Member States of the European Union, previously issued EASA AD 2024-0058R2, dated October 4, 2024 (EASA AD 2024-0058R2), to correct an unsafe condition on all Airbus SAS Model A350-941 and -1041 airplanes. The FAA issued corresponding AD 2025-05-14, Amendment 39-22986 (90 FR 12449, March 18, 2025); corrected April 1, 2025 (90 FR 14331) (AD 2025-05-14), for those airplanes, as an interim AD. AD 2025-05-14 required repetitively testing the PCE for air leaks and reporting the results, and, depending on findings, inspecting the thermal blankets for damage and replacing the PCE. AD 2025-05-14 was prompted by a report indicating that the thrust reverser and pylon thermal blankets were found damaged due to air leaking from the PCE. The FAA issued AD 2025-05-14 to address PCE leaking air, which could result in thermal blanket damage that, if combined with an independent event of an engine fire, could lead to a temporary uncontrolled fire.

Actions Since AD 2025-05-14 Was Issued

Since the FAA issued AD 2025-05-14, EASA issued AD 2024-0058R2-CN, dated August 20, 2025 (EASA AD 2024-0058R2-CN), to cancel EASA AD 2024-0058R2. EASA AD 2024-0058R2-CN states that further investigations confirmed that the fire barrier function of the inner fixed structure remained effective, and that the observed PCE air leakages are not impacting the fire detection/extinguishing capability. Consequently, the subsequent risk re-assessment has determined that the safety issue addressed by EASA AD 2024-0058R2 does not qualify as an unsafe condition.

FAA's Conclusions

Upon further consideration, the FAA has determined that AD 2025-05-14 is no longer appropriate. Accordingly, this AD removes AD 2025-05-14. Removal of AD 2025-05-14 does not preclude the FAA from issuing another related action or commit the FAA to any course of action in the future. This AD removes all actions of AD 2025-05-14. Therefore, this AD terminates all requirements of AD 2025-05-14.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

The actions required by interim AD 2025-05-14 are unnecessary because further investigations and the subsequent risk re-assessment have shown that the airworthiness concern addressed by that AD is not an unsafe condition that warrants an AD. Accordingly, notice and opportunity for prior public comment are unnecessary pursuant to 5 U.S.C. 553(b). In addition, for the foregoing reason, the FAA finds that good cause exists pursuant to 5 U.S.C. 553(d) for making this amendment effective in less than 30 days.

Regulatory Flexibility Act (RFA)

The requirements of the Regulatory Flexibility Act (RFA) do not apply when an agency finds good cause pursuant to 5 U.S.C. 553 to adopt a rule without prior notice and comment. Because FAA has determined that it has good cause to adopt this rule without prior notice and comment, RFA analysis is not required.

Related Costs of Compliance

This AD adds no costs. This AD removes AD 2025-05-14 from 14 CFR part 39; therefore, operators are no longer required to show compliance with that AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2025-05-14, Amendment 39-22986 (90 FR 12449, March 18, 2025); corrected April 1, 2025 (90 FR 14331), and

b. Adding the following new AD:

2025-05-14R1 Airbus SAS: Amendment 39-23201; Docket No. FAA-2025-5029; Project Identifier MCAI-2024-00153-T.

(a) Effective Date

This AD is effective November 21, 2025.

(b) Affected AD

This AD replaces AD 2025-05-14, Amendment 39-22986 (90 FR 12449, March 18, 2025); corrected April 1, 2025 (90 FR 14331) (AD 2025-05-14).

(c) Applicability

This action applies to all Airbus SAS Model A350-941 and -1041 airplanes, certificated in any category.

(d) Subject

Air Transport Association (ATA) of America Code 36, Pneumatic.

(e) Terminating Action

This AD terminates all requirements of AD 2025-05-14.

(f) Additional Information

For more information about this AD, contact Tak Kobayashi, Aviation Safety Engineer, FAA, 2200 South 216th St., Des Moines, WA 98198; phone: 206-231-3553; email: takahisa.kobayashi@faa.gov.

(g) Material Incorporated by Reference

None.

Issued on November 19, 2025.
Peter A. White,
Deputy Director, Integrated Certificate Management Division, Aircraft Certification Service.

[FR Doc. 2025-20590 Filed 11-20-25; 8:45 am]

BILLING CODE 4910-13-P